DEPARTMENT OF EDUCATION

[Docket No.: ED-2024-SCC-0068]

Agency Information Collection Activities; Submission to the Office of Management and Budget for Review and Approval; Comment Request; Subminimum Wage to Competitive Integrated Employment (SWTCIE) Program Evaluation

AGENCY: Office of Special Education and Rehavilitative Services (OSERS), Department of Education (ED).

ACTION: Notice.

SUMMARY: In accordance with the Paperwork Reduction Act (PRA) of 1995, the Department is proposing a new information collection request (ICR).

DATES: Interested persons are invited to submit comments on or before November 12, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Diandrea Bailey, (202) 987-0126.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Subminimum Wage to Competitive Integrated Employment (SWTCIE) Program Evaluation.

OMB Control Number: 1820-NEW.

Type of Review: New ICR.

Respondents/Affected Public: Individuals or Households.

Total Estimated Number of Annual Responses: 4,866.

Total Estimated Number of Annual Burden Hours: 2,224.

Abstract: The U.S. Department of Education's Rehabilitation Services Administration (RSA) requests clearance for new data collection activities to support the evaluation of the Disability Innovation Fund (DIF) Subminimum Wage to Competitive Integrated Employment (SWTCIE) program. The aim of this project is to increase transitions to competitive integrated employment (CIE) among people working in subminimum wage employment (SWE)—or considering doing so—through innovative activities to build systemwide alternatives to subminimum wage employment. Advocacy, policy and practice have evolved in recent decades toward a shift to CIE, as reflected in the Workforce Innovation and Opportunity Act and most recently in the Consolidated Appropriations Act of 2021, which provides funding for DIF. This request covers primary data collection activities, including survey data, administrative data, site visits, and focus groups.

In September 2022, the RSA awarded five-year grants for the 84.421D DIF. The grants provide 14 state vocational rehabilitation (VR) agencies with funding to implement SWTCIE Innovative Model Demonstration projects to decrease SWE and increase CIE among people with disabilities currently employed in or contemplating SWE. To achieve this purpose, the projects will create innovative models for dissemination and replication to (1) identify strategies for addressing barriers associated with accessing CIE, (2) provide integrated services that support CIE, (3) support integration into the community through CIE, (4) identify and coordinate wraparound services for project participants who obtain CIE, (5) develop and disseminate evidence-based practices, and (6) provide entities holding section 14(c) certificates with readily accessible transformative business models for adoption. The intervention models vary across the SWTCIE projects, but all of them will work with employers that hold 14(c) certificates, other employers, service providers, and additional community partners to empower transition-age youth and working-age adults with disabilities to pursue CIE. In addition, each project will use part of its funds for an independent evaluator to conduct a project-specific evaluation of its activities and outcomes.

This data collection for the RSA DIF is critical as the evaluation is intended to make information more actionable for practitioners and policymakers and ensure the DIF program outcomes are duplicatable for VR agencies and partners. The evaluation will (1) describe the implementation and costs of the federally-funded program and strategies; (2) improve the identification of DIF program models and strategies related to the state VR programs, intended to improve outcomes for individuals with disabilities in CIE, including but not limited to accommodations and services for individuals with disabilities, utilization of technology, and supports; (3) interconnect the projects to evaluate the effectiveness of particular strategies in the context of how commonly that strategy is used across the projects; (4) analyze trends in CIE outcomes and potential impacts of federal grants; and (5) examine the effectiveness and cost effectiveness of the program and strategies that support CIE and reduce SWE.

Dated: October 7, 2024.
Juliana Pearson,
PRA Coordinator, Strategic Collections and Clearance, Governance and Strategy Division, Office of Chief Data Officer, Office of Planning, Evaluation and Policy Development.

[FR Doc. 2024-23516 Filed 10-10-24; 8:45 am]

BILLING CODE 4000-01-P